DEPARTMENT OF ENERGY

Federal Energy Regulatory Commission

[Docket No. AD05-13-000]

Joint Boards on Security, Constrained Economic Dispatch; Third Notice on the Initial Joint Board Meetings

October 27, 2005.

A notice ¹ announcing the location of the initial joint board meetings ² was issued on October 14, 2005. At that time, the Commission noted that it would provide further details on the meetings as they became available. The locations and times for the PJM/MISO and the Northeast joint board meetings are provided below.

¹ The initial notice was issued in accordance with the Commission's order on Joint Boards on Security Constrained Economic Dispatch, 112 FERC ¶ 61,353 (2005) (September 30 Order). A subsequent notice was issued on October 21, 2005, listing the members of each joint board.

² These joint board meetings are being held pursuant to section 1298 of the Energy Policy Act of 2005, Pub. L. 109-58, section 1298, 119 Stat. 594, 986 (2005), which added section 223 to the Federal Power Act, 16 U.S.C. 824 et seq. (2000). FPA section 223 requires the Commission to convene joint boards on a regional basis pursuant to FPA section 209 “to study the issue of security constrained economic dispatch for the various market regions,” “to consider issues relevant to what constitutes ‘security constrained economic dispatch’ and how such a mode of operating * * * affects or enhances the reliability and affordability of service,” and “to make recommendations to the Commission.”

Region | Date | Time | Location
PJM/MISO | November 21, 2005 | 10 a.m. to 4 p.m. | Doubletree Hotel O'Hare—Rosemont, 5460 N. River Road, Rosemont, IL 60018.
Northeast | November 29, 2005 | 10 a.m. to 4 p.m. | The Colonnade, 120 Huntington Avenue, Boston, Massachusetts 02116.

The September 30 Order invited the Canadian provinces, Canada and Mexico to participate as observers on the appropriate joint boards. The Province of Manitoba, Canada, wishes to participate on the PJM/MISO joint board. We note that Mr. Garry Hastings of the Department of Energy, Science and Technology will represent Manitoba on the PJM/MISO joint board.

For more information about the conference, please contact Sarah McKinley at 202-502-8004 or sarah.mckinley@ferc.gov.

Magalie R. Salas,
Secretary.

[FR Doc. E5-6082 Filed 11-2-05; 8:45 am]

BILLING CODE 6717-01-P